DEPARTMENT OF TRANSPORTATION

Federal Aviation Administration

14 CFR Parts 11 and 121

[Docket No.: FAA-2014-0205; Amdt. Nos. 11-57 and 121-373]

RIN 2120-AK17

Disclosure of Seat Dimensions To Facilitate Use of Child Safety Seats on Airplanes During Passenger-Carrying Operations

AGENCY: Federal Aviation Administration (FAA), DOT.

ACTION: Final rule.

SUMMARY: This final rule requires air carriers conducting domestic, flag, and supplemental operations to make available on their Web sites information to enable passengers to determine which child restraint system can be used on airplanes in these operations. Specifically, this final rule requires air carriers to make available on their Web sites the width of the narrowest and widest passenger seats in each class of service for each make, model and series of airplane used in passenger-carrying operations.

DATES: This rule is effective October 30, 2015. Compliance with this rule is required February 29, 2016.

ADDRESSES: For information on where to obtain copies of rulemaking documents and other information related to this final rule, see “How To Obtain Additional Information” in the SUPPLEMENTARY INFORMATION section of this document.

FOR FURTHER INFORMATION CONTACT: For technical questions concerning this action, contact Catherine Burnett, Flight Standards Service, Air Transportation Division, AFS-200, Federal Aviation Administration, 800 Independence Avenue SW., Washington, DC 20591; telephone (202) 267-8166; email catherine.burnett@faa.gov. For legal questions concerning this action, contact Sara L. Mikolop, Office of the Chief Counsel, Regulations Division, AGC-200; Federal Aviation Administration, 800 Independence Avenue SW., Washington, DC 20591; telephone (202) 267-3073; email sara.mikolop@faa.gov.

SUPPLEMENTARY INFORMATION:

Authority for This Rulemaking

Section 412 of the FAA Modernization and Reform Act of 2012 (Pub. L. 112-95) ¹ (the Act) required the FAA to conduct rulemaking “[T]o require each air carrier operating under part 121 of title 14, Code of Federal Regulations, to post on the Internet Web site of the air carrier the maximum dimensions of a child safety seat that can be used on each aircraft operated by the air carrier to enable passengers to determine which child safety seats can be used on those aircraft.” ² This rulemaking is promulgated under the scope of the authority in section 412 of the Act.

¹ Codified as a preceding note to 49 U.S.C. 42301, 126 Stat. 89.

² Section 412 of Public Law 112-95 uses the term “child safety seat.” However, the FAA uses the term “child restraint system” to describe an approved seat or device used to restrain children on aircraft. Thus, for consistency with existing FAA regulations, this final rule uses the term child restraint system (CRS), rather than child safety seat.

In addition to the authority found in the Act, the FAA has authority under Title 49 of the United States Code (49 U.S.C.) to issue rules on aviation safety. Section 106 of Subtitle I describes the authority of the FAA Administrator. Subtitle VII, Aviation Programs, describes in more detail the scope of the agency's authority. This rulemaking is consistent with the authority described in 49 U.S.C. 106(f), which establishes the authority of the Administrator to promulgate regulations and rules and 49 U.S.C. 44701(a)(5), which requires the Administrator to promote safe flight of civil aircraft in air commerce by prescribing regulations and minimum standards for other practices, methods, and procedures necessary for safety in air commerce and national security.

I. Overview of the Final Rule

Existing regulations regarding the use of a child restraint system (CRS) on airplanes operating under part 121 are found in 14 CFR 121.311. In accordance with § 121.311, no certificate holder ³ conducting operations under part 121 may prohibit a child from using an approved CRS when the child's caregiver ⁴ purchases a ticket for the child.

³ The FAA notes that Public Law 112-95 uses the term “air carrier.” FAA regulations use terms such as “certificate holders”, “operators”, and “air carriers” to describe a person who undertakes directly by lease, or other arrangement, to engage in air transportation. This final rule uses the term “air carrier” to refer to these persons.

⁴ Section 121.311 uses the term “parent, guardian, or designated attendant” to refer to the person traveling with, and providing care for, the child. For ease of reference the FAA has used “caregiver” throughout this final rule to refer to these persons.

The FAA strongly encourages the use of an FAA-approved CRS on aircraft.⁵ However, in a small number of cases, an approved CRS may not fit in a particular airplane seat because the CRS exceeds the dimensions of the airplane seat. Accordingly, the FAA has issued guidance to facilitate the use of a CRS on airplanes in situations when a caregiver purchased a ticket for the child but the approved CRS that the caregiver wishes to use does not fit in a particular seat on the airplane.6 7 Although the FAA has provided guidance to air carriers regarding how to accommodate a CRS, this rulemaking would give caregivers additional information on whether an FAA-approved CRS will fit on the airplane on which they expect to travel.

⁵ See http://www.faa.gov/passengers/fly_children/crs/ (visited March 26, 2015).

⁶ Advisory Circular (AC) 120-87B, Use of Child Restraint Systems on Aircraft (September 17, 2010). The agency has revised and updated this AC. The revised and updated AC, published with this final rule, is identified as AC 120-87C. All ACs can be found at http://www.faa.gov/regulations_policies/advisory_circulars/.

⁷ Information For Operators (InFO) 11007 Regulatory Requirements Regarding Accommodation of Child Restraint Systems—Update (March 10, 2011) is available at http://www.faa.gov/other_visit/aviation_industry/airline_operators/airline_safety/info/all_infos/.

This rule requires air carriers operating under 14 CFR part 121 that have Web sites to post on their Web sites information regarding airplane seat dimensions. The FAA notes, however, that this rule does not require an air carrier that does not have a Web site to establish a Web site to satisfy the information disclosure requirements of this final rule.

Specifically, affected air carriers must post the width of the narrowest and widest passenger seats in each class of service for each airplane make, model and series operated in passenger-carrying operations. By requiring air carriers to make this information available, the agency expects caregivers to have more information about whether a specific CRS can be used on the airplane on which they expect to travel.

The FAA emphasizes that this rule includes an information disclosure requirement only. It does not create any new operational requirements for air carriers or flight attendants; it does not change any existing provisions regarding the use of a CRS on board airplanes or existing regulations regarding passengers under the age of 2 traveling on board airplanes with or without the use of a CRS; and, it does not require an air carrier to identify the specific airplane that it will use on a given flight.

This final rulemaking is minimal cost and is estimated to be $372,600 over a ten-year period ($271,800 present value).

II. Background

A. Existing Requirements

Existing requirements regarding CRS use in part 121 operations are found in 14 CFR 121.311. Section 121.311(c)(2) generally states that no air carrier may prohibit a child, if requested by the child's caregiver, from occupying a CRS furnished by the child's caregiver provided that the following conditions are satisfied: The child holds a ticket for an approved seat or a seat is made available by the air carrier for the child's use; the child is accompanied by a caregiver; and, the CRS is appropriately labeled and secured. (Certificate holders are encouraged to allow the use of an empty seat to accommodate a CRS; however, they are not required to allow non-ticketed children to occupy empty passenger seats, even if the child uses a CRS.)

Under § 121.311(c)(3), however, air carriers may determine the most appropriate passenger seat location for a CRS based on safe operating practices. In assessing the most appropriate location for a CRS, an air carrier must consider a number of factors. For example, the CRS must be installed in a forward-facing airplane seat in accordance with the provisions of § 121.311. This includes placing the CRS in the appropriate forward or aft-facing direction as indicated on the label for the size of the child. A window seat is the preferred location; however, other locations may be acceptable, provided the CRS does not block the egress of any passenger, including the child's caregiver, to the aisle used to evacuate the airplane.

B. Public Information and Guidance Material

The FAA encourages the use of an approved CRS on airplanes and has committed to educate and inform passengers, air carriers and crewmembers regarding CRS use on airplanes in order to increase their use on airplanes. Accordingly, the FAA provides information on its Web site for caregivers traveling with children on the use of a CRS on airplanes. The public information and guidance material are intended to be useful to caregivers in support of the agency's commitment regarding CRS use. For example, the FAA has previously addressed the issue of “CRS fit” in airplane seats on the FAA Web site by informing caregivers that a CRS with a maximum width of 16 inches should fit in most airplane seats.⁸

⁸ http://www.faa.gov/passengers/media/childsafety.pdf (visited July 8, 2015).

Additionally, on November 3, 2005, the FAA published Advisory Circular (AC) 120-87, Use of Child Restraint Systems on Aircraft, to serve as a resource during development, implementation, and revision of an air carrier's standard operating procedures and training programs regarding CRS use. The FAA has since published two amended versions of the AC. AC 120-87A was published on December 1, 2006 and AC 120-87B was published on September 17, 2010. The AC provides information on placement of a CRS on airplanes that may be considered by air carriers as they develop policies regarding seat locations for CRS use on a specific airplane. The AC also explains how placement of a CRS in an aisle seat or in a seat forward or aft of an emergency exit row may affect egress during an evacuation. Further, the AC emphasizes the carrier's discretion in identifying the most appropriate forward-facing passenger seat location for a CRS but explains that prohibiting the use of a CRS by a ticketed child, when there are seats where the CRS could be used safely, is not consistent with § 121.311. The FAA will publish updated AC 120-87C with this final rule to address the seat dimension disclosure requirements of this final rule.

The FAA also published Information for Operators (InFO) 11007, Regulatory Requirements Regarding Accommodation of Child Restraint Systems—Update, to clarify regulations regarding CRS accommodation and to provide information for a CRS with a detachable base. As with AC 120-87, InFO 11007 provides examples of CRS design variations and lists possible solutions for accommodation. For example, a CRS with a base that is too wide to fit properly in a seat with rigid armrests could be moved to a seat with moveable armrests that can be raised to accommodate the CRS, and an aft-facing CRS that cannot be installed properly, because of minimal pitch (distance between rows of seats), can be moved to a bulkhead seat or a seat in a row with additional pitch. The FAA will publish an updated InFO so that it remains consistent with the requirements of this final rule.

C. Summary of the Notice of Proposed Rulemaking (NPRM)

Section 412 of the FAA Modernization and Reform Act of 2012 (Pub. L. 112-95) (the Act) required the FAA to conduct rulemaking “[T]o require each air carrier operating under part 121 of title 14, Code of Federal Regulations, to post on the Internet Web site of the air carrier the maximum dimensions of a child safety seat that can be used on each aircraft operated by the air carrier to enable passengers to determine which child safety seats can be used on those aircraft.” To fulfill the requirements of the Act, the FAA proposed to require air carriers operating under part 121 to make available on their Web sites the width of the widest passenger seat in each class of service for each make, model and series of airplane used in passenger-carrying operations (79 FR 18212, April 1, 2014). The agency intended the proposed revisions to part 121 to provide greater information to caregivers to help them determine whether a particular CRS will fit in an airplane seat. This proposal would not have affected existing regulations regarding the use of a CRS on board airplanes or a passenger under the age of 2 traveling onboard airplanes with or without the use of a CRS. The NPRM provided a public comment period of 90 days, which ended on June 30, 2014.

D. General Overview of Comments

The FAA received ten comments. Commenters included three individuals, Airlines for America (A4A), the American Automobile Association (AAA), the Association of Flight Attendants (AFA), Baby B'Air, Consumers Union, the National Transportation Safety Board (NTSB) and Spirit Airlines (Spirit). All of the commenters generally supported the proposed changes; however, some suggested changes, as addressed in the section of the document entitled, “Discussion of Public Comments and Final Rule.”

The FAA received comments on the following general issue areas related to the proposal:

• Disclosure of the width of the narrowest seat in addition to the proposal to disclose the width of the widest seat in each class of service;

• Disclosure of the width of the narrowest seat in lieu of the proposal to disclose the width of the widest seat in each class of service;

• Disclosure of seat pitch in addition to the proposal to disclose seat width;

• Airplane equipment changes that result in seat measurements different from the measurements relied upon for a seat previously purchased;

• Definition of “seat width”; and

• Commonality of seat dimensions (within the same class of service) among an air carrier's airplanes within the same make, model and series.

Several commenters addressed issues outside of the scope of this rulemaking. These issues included discussion of a requirement for all passengers including infants to be properly secured in their own seats with an approved safety restraint.

III. Discussion of Public Comments and Final Rule

This rulemaking satisfies the rulemaking requirement of section 412 of the Act by making more information available to allow caregivers to make a determination regarding CRS fit prior to a flight. In the NPRM, the agency proposed to require air carriers conducting passenger operations under part 121 to disclose on their Web sites the width of the widest passenger seat in each class of service for each airplane make, model and series within the air carrier's fleet. The proposal was limited in its applicability to part 121 air carriers conducting passenger-carrying operations because all-cargo operations have generally been excluded from part 121 requirements pertaining to passengers.⁹ See 14 CFR 121.583. The agency notes that the proposed information disclosure requirement would supplement existing regulations that allow the use of an approved CRS and FAA guidance to caregivers regarding CRS fit in airplane seats.

⁹ Part 121 passenger-carrying operations are defined in § 110.2 to mean “any aircraft operation carrying any person, unless the only persons on the aircraft are those identified in §§ 121.583(a) or 135.85 of this chapter, as applicable. An aircraft used in a passenger-carrying operation may also carry cargo or mail in addition to passengers.”

The final rule differs from the proposal in two respects. First, whereas the proposal required disclosure of only the widest seat in each class of service, the final rule requires disclosure of both the widest and the narrowest seats in each class of service. Second, the final rule clarifies the measurement of seat width. The agency addresses these modifications in more detail in the discussions entitled “Disclosure of width of the widest and narrowest seats in each class of service” and “Definition of seat width” respectively.

A. Airplane Passenger Seat Dimensions

Although section 412 of the Act refers to the maximum dimensions of child safety seats that can be used on each aircraft the operator uses, the FAA proposed an alternate approach in the NPRM in order to implement the statute's goal to enable a passenger to determine which CRS can be used on an airplane. The FAA does not believe that it is practical for each air carrier to provide the maximum dimensions of one or many CRSs the carrier does not possess or to which the carrier does not have ready access. In contrast, air carriers have ready access to the airplanes they operate and information regarding those aircraft.

Therefore, the agency proposed to require air carriers to provide seat dimension data to fulfill the intent of the statutory requirement for rulemaking. Seat dimension data provides information equivalent to CRS dimension data that can be used to assist caregivers in making a determination as to whether a CRS will fit in a passenger seat on the airplane on which they expect to travel.

The agency did not receive any comments objecting to the proposal to provide seat dimension information and A4A specifically supported it. Accordingly, in the final rule, the FAA has maintained the NPRM approach to providing seat dimension information.

B. Disclosure of Seat Dimensions for Each Class of Service for Each Make, Model and Series of Airplane Used for Passenger-Carrying Operations

In the NPRM, the agency proposed to amend § 121.311 by adding a requirement for air carriers to disclose seat dimension information for each class of service for each airplane make, model and series that a certificate holder uses in passenger-carrying operations.

Class of service—Spirit noted that while it has only one class of service, within that class it offers wider seats at a higher price. Spirit's concern is that publishing the dimensions of these higher-priced seats could mislead passengers, causing them to believe that the higher priced seats are available without paying an additional fee.

The FAA appreciates Spirit's comments but has determined that class of service is the most relevant break point for information disclosure as it remains the prevailing concept used to distinguish seat products, including the seat size variations and amenities that are associated with those products. It has also been the agency's longstanding policy that CRS accommodation need only be made within the same class of service as the ticket holder's class of service in order to comply with § 121.311(c)(2). See AC 120-87. Thus, disclosure of seat dimension information for each class of service correlates to the existing air carrier obligations for CRS accommodation. The DOT defines “class of service” to mean seating in the same cabin class such as First, Business, or Economy class, or in the same seating zone if the carrier has more than one seating product in the same cabin such as Economy and Premium Economy class.

The agency recognizes, however, that there may be seat product concepts that are analogous to the distinction in classes of service for purposes of CRS accommodation and that they may be relevant to the assessment of CRS accommodation. The agency will address these analogous seat product concepts and their relevance to CRS accommodation in revised CRS guidance material published with this final rule (AC 120-87C).

The purpose of this final rule is to facilitate CRS use on airplanes through disclosure of seat dimensions. Consistent with this goal, the agency encourages air carriers to provide any additional information to their customers that would further facilitate CRS use on airplanes.

Airplane substitutions and airplane equipment (passenger seats)—Two commenters (NTSB and AAA) expressed concern about airplane substitutions and the absence of a requirement for air carriers to disclose the make, model and series for each flight. NTSB noted that the NPRM does not address situations in which an air carrier makes an airplane substitution and the substitution airplane has different types of seats with measurements that differ from the measurements relied upon for a seat previously purchased for the intended use of a CRS. AAA suggested that the FAA should require air carriers to provide a list of potential planes used for particular routes, as this could provide consumers with information more relevant and useful in planning travel. Consumers Union recommended that air carriers should identify the airplane that will be used for each segment of a flight, whether that segment is operated by the air carrier with which the consumer is dealing directly, or by some other air carrier with which the first air carrier has a code-sharing or other partnership arrangement.

In related comments, A4A and Spirit disagreed with FAA's information about the commonality of seat dimensions among an air carrier's airplanes of the same make, model and series. A4A stated, “The widths of the widest and narrowest passenger seats may vary within a given aircraft series and operated by the same carrier depending on the particular model of seats installed on the aircraft.” Similarly, Spirit commented that its 29 Airbus A319-100 airplanes are equipped with different seat models that differ in width.

The information disclosure requirements in this final rule balance the directive to facilitate CRS use and the necessary operational flexibility that air carriers must have to substitute airplanes as they determine appropriate. Currently, there is no requirement for air carriers to disclose in advance of a flight, the specific airplane that will be used for that flight, and such a requirement is outside of the scope of this rulemaking. Without such a requirement, additional seat information disclosure requirements applicable to each specific airplane in an air carrier's fleet would not further facilitate CRS use.

While the agency agrees with comments indicating that not every airplane of the same make, model and series used by a particular air carrier may be equipped with the same seat model, and that some may differ in size, after further review of airplanes used by affected air carriers, the FAA determined that in many cases, there is commonality in seat dimensions for airplanes of the same make, model, and series operated by an air carrier. Therefore, this final rule leverages the commonality that does exist among aircraft seats to provide caregivers with the most helpful information regarding CRS fit.

Additionally, in the example cited by Spirit where there may be varying models of seats on a particular make, model and series of aircraft, Spirit would still only have to post two measurements. In Spirit's example, the make is Airbus, the model is 319 and the series is 100. If, hypothetically, there were three or four different models of seats with varying widths on their entire A-319-100 fleet, in order to comply with the requirements of this final rule, Spirit would only have to post the dimensions of the narrowest seat and the widest seat in each class of service for their entire fleet of A-319-100s.

Accordingly, the final rule retains the proposed requirement to disclose seat information for each class of service for each airplane make, model, and series operated by the air carrier in passenger carrying operations.

C. Disclosure of Width of the Widest and Narrowest Seats in Each Class of Service

In the NPRM, the agency proposed to require air carriers to disclose the width of the widest passenger seat in each class of service because width is the predominant limiting seat dimension for CRS use on airplanes. Also, if a caregiver knew the width dimension of the widest seat for a particular class of service on an airplane, and if the CRS the caregiver intended to use on the flight fits within that dimension, then the caregiver would be able to expect that at least one seat in the class of service for which the caregiver and child were ticketed would accommodate the CRS.

The agency also sought comment on alternative proposals pertaining to the disclosure of seat width. Specifically, the agency asked whether disclosure of only the narrowest seat in each class of service or disclosure of both narrowest seat and the widest seat in each class of service would be more effective in facilitating CRS use.

Two commenters (an individual and Spirit) recommended that the FAA modify the proposal by requiring air carriers to disclose the dimensions of the narrowest seat in each class of service rather than the widest. An individual commenter noted that if a CRS will fit in the narrowest seat in a particular class of service, it will fit in all seats in that class. Spirit offered a similar argument and added that disclosure of the widest seat in each class of service would lead to passenger confusion about the availability of the widest seats.

Four commenters (A4A, AFA, NTSB and Consumers Union) recommended modifying the proposal by requiring air carriers to disclose the widths of both the narrowest and widest seats in each class of service because such a requirement would further the goal of providing the most useful information to caregivers.

A4A suggested that disclosure of dimensions of only the widest seat on an aircraft could lead caregivers to mistakenly assume that their CRS will fit in their reserved seat if it is smaller than the dimensions of the widest seat available, and that such misunderstandings could lead to airplane boarding delays. A4A also noted that disclosure of only the widest seat could discourage caregivers from using a CRS based on concern that they may not be assigned to that widest seat. Further, A4A commented that provision of the widths of both the narrowest and widest seats in each class of service provides caregivers a more complete picture of the dimensions of the entire seat class, enabling them to make more informed decisions pertaining to CRS use.

AFA commented that requiring disclosure of both dimensions would more effectively achieve the statutory intent of facilitating CRS use. AFA did not support disclosure of only the widest seat in each class of service.

NTSB commented that providing the width for both the narrowest and widest seats in each class of service for seats in which a CRS could be installed would give caregivers more useful information. NTSB explained that this additional information could enable the caregiver to work with the air carrier to determine the most suitable seat assignment. NTSB also commented that providing the dimensions of the narrowest seats could help CRS manufacturers to develop or identify a CRS that can fit in any air carrier seat, thereby assisting caregivers in procuring a CRS suitable for air travel.

Consumers Union generally supports a requirement to disclose seat dimension information, but added that a better approach would be to require disclosure of all the dimensions of all available seats on an airplane to enable the consumer to select an appropriate seat from all available seats.

While the FAA recognizes that other seat dimensions may limit CRS fit on some occasions, seat width remains the predominant limiting dimension for CRS use in an airplane seat and thus remains the focus of this rulemaking. However, upon further consideration of the proposal and review of comments, the FAA agrees with comments regarding the benefits of disclosure of the width of both the narrowest and widest seat in each class of service for each airplane make, model and series. Disclosure of the widths of both the narrowest and widest seats in each class of service would be more effective in achieving the statutory intent of facilitating CRS use. Thus, the final rule requires each air carrier to make available on its Web site the width of both the narrowest and widest passenger seats in each class of service, for each airplane make, model, and series used in passenger-carrying operations under part 121. Disclosure of the width of the narrowest and widest seats in each class of service will enable caregivers to better determine if the CRS they provide for their child will fit in the airplane on which they expect to travel and thus will encourage more widespread use of a CRS in air transportation.

Finally, NTSB commented that “[I]nformation should only be provided for seats in which an approved CRS would be allowed to be installed.” The NTSB noted that CRS use is typically not permitted in exit rows and aisle seats so as not to affect emergency egress. The FAA agrees with the intent of the NTSB comment and recognizes the importance of information about potential limitations on CRS use.

Some air carriers currently publish information regarding regulatory restrictions or approved operating procedures that limit CRS use in specific airplane locations (e.g. exit rows, seats that are not forward facing, aisle seats).¹⁰ In the updated guidance material published with this final rule (AC 120-87C), the agency encourages all air carriers to provide passengers with such information. The agency emphasizes that under § 121.311(c) and as further explained in AC 120-87C (and previous editions of this AC), the FAA permits air carriers to determine the most appropriate passenger seat location for a CRS, consistent with safe operating practices. Although some limits on CRS location may be aircraft-specific and thus consistently applied across aircraft of the same make, model and series, in other cases, the air carrier determination regarding CRS location may be operation-specific. Air carriers must retain the operational flexibility to adjust their procedures regarding CRS placement and make real-time determinations regarding CRS placement as necessary to comply with safe operating practices. Thus given the necessity for air carriers to retain the flexibility to determine appropriate seat locations for CRS use, the suggested modification to the requirement for seat information on the air carrier's Web site would not further facilitate CRS use and result in an unnecessary burden.

¹⁰ 14 CFR 121.585(b) prohibits CRS use in exit rows and 14 CFR 121.311(b) only allows use of CRS in forward-facing seats.

D. Definition of Seat Width

A4A stated that the NPRM did not define seat width and suggests that the FAA include a definition of “seat width” in the final rule to avoid confusion. A4A recommended that seat width should be measured as the distance between the inside of the seat arm rests.

Although the NPRM preamble identified seat width as the distance between arm rests, to ensure clarity, the amendment to § 121.311 will include a definition of seat width applicable to seat dimension disclosure requirements. Consistent with the A4A comment and the NPRM preamble, the definition will specify that seat width is the distance between the inside of the seat arm rests.

E. Seat Pitch

In the NPRM, the FAA considered requiring disclosure of seat pitch (distance between rows of seats); however the agency determined that the predominant passenger seat dimension that limits CRS use is the width of the passenger seat.

Three commenters—NTSB, Consumers Union and AAA—recommended that the FAA require disclosure of seat pitch in addition to seat width, as seat pitch may be the limiting dimension in situations involving a rear-facing CRS. The agency acknowledges that in some circumstances, seat pitch can affect the use of a CRS that must be used in an aft-facing position, but using pitch to determine CRS fit is complex and minimally effective without additional detail.

Air carriers may be able to provide the distance between rows of passenger seats or “pitch” and some air carriers currently do so. However, as stated in the NPRM, a rear-facing CRS does not have an equivalent measurement to “pitch” as it does to “width.” In order to be installed properly, an aft-facing CRS must be installed in an aircraft seat on an angle. An aft-facing CRS has an installed level indicator (typically a moving ball or needle that must stay between two lines) that indicates when the CRS is properly oriented in the airplane seat. Therefore, although seat pitch can affect whether there is enough room to properly use an aft-facing CRS, it is only part of the triangular equation with several variables which makes it difficult for seat pitch data to provide meaningful information to a caregiver. (The agency notes that one way to accommodate an aft-facing CRS that does not fit in a row because of seat pitch, is for the air carrier to move the CRS to a seat in a bulkhead row where pitch is not typically an issue.)

Based on the foregoing and consistent with the proposal, the final rule does not require air carriers to provide information regarding seat pitch.

F. Disclosure of Seat Dimensions on Air Carrier Web Sites

Consistent with the requirement for rulemaking in section 412 of the Act, the agency proposed to require air carriers that have Web sites to disclose on those Web sites certain seat dimension data. The final rule includes this disclosure requirement.

In the NPRM, the FAA noted that a number of air carriers currently conducting passenger-carrying operations already provide seat dimension information on their Web sites. For example, some air carriers currently provide both the pitch and width for the passenger seats in each class of service. The agency expects, however, that the information disclosure proposed in the NPRM and included in this final rule will increase the instances in which caregivers are able to assess whether a CRS will fit on an airplane make, model, and series on which they expect to travel.

Air carriers may use existing information pages on their Web sites that already provide information regarding airplane cabin interior dimensions and CRSs to list the width of the widest and narrowest seats for each class of service on each airplane make, model, and series in their fleets.

The only time an air carrier would need to update its Web site after initial implementation would be when a new airplane make, model, or series is introduced to the air carrier's fleet, or when the air carrier replaces the widest or narrowest seats installed on an existing airplane make, model, or series with wider or narrower seats.

Consumers Union stated that it is insufficient to require seat dimension information to be disclosed only on air carrier Web sites and recommended making such information available “[E]verywhere a consumer might purchase a ticket or change a flight.” While the FAA appreciates the intent behind this comment, this rule is promulgated under the authority of section 412 of the Act, which requires the FAA to initiate rulemaking to require air carriers conducting part 121 operations to make certain information available on those air carriers' Web sites. Therefore, as proposed, the final rule will require seat information disclosure on the air carrier's Web site only.

G. Passenger Seat Requirements

Three commenters—Consumers Union, NTSB, and AFA—suggested that the ultimate goal should be to mandate that all passengers including infants be properly secured in their own seats with approved safety restraints. Consumers Union added that as an interim step, air carriers should facilitate and encourage CRS use by offering seats at no cost or a drastically reduced cost for infants and toddlers under the age of two.

The FAA appreciates the intent of these comments and strongly encourages the use of a CRS on airplanes through multiple outreach efforts. However, this comment recommends changes to current passenger seating requirements that are outside of the scope of the information disclosure NPRM that preceded this final rule.

H. Miscellaneous

The FAA proposed a conforming change to 14 CFR 121.583 to make clear that the requirement applies in passenger-carrying operations only. The FAA did not receive any comments on this proposed conforming change and has included it in the final rule.

I. Part 11 Amendment

The FAA submitted a request for Office of Management and Budget (OMB) approval for the information collection activities in this final rule. OMB has approved the information collection and assigned OMB control number 2120-0760. Accordingly, the FAA is updating the table in § 11.201(b) to display this control number.

J. Effective Date

The FAA recognizes that different operators will need different lengths of time to comply with this regulation due to variations in information technology systems, variations in currently published data, and the range of numbers of airplane make, model and series in each operator's fleet. In the NPRM, the FAA proposed an effective date of 150 days after the date of publication of the final rule in the Federal Register and proposed to require compliance on the effective date.

While the FAA did not receive any comments on the proposed effective and compliance dates, further review of this issue led the FAA to conclude that the effective date of the final rule should be 30 days after publication. Accordingly, the final rule will be effective 30 days after publication in the Federal Register, and compliance will be 150 days after publication of the final rule.

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this rule. The reasoning for this determination follows.

The FAA estimates that children under the age of two represent one percent of all commercial passengers.¹¹ When travelling by air, a caregiver for a child under the age of two may choose either to fly with the child seated in the caregiver's lap (at no additional fee for the caregiver), or to purchase a separate ticket for the child, thus allowing the child to be secured in his or her own seat, with or without the use of a CRS. The agency does not have the exact count of passengers younger than two or whether those passengers arrived at their destinations sitting in the lap of a caregiver or secured in a separate airplane seat.

¹¹ Child Passenger Safety Forum, National Transportation Safety Board, December 9, 2010, Summary Report at page 3.

For child safety purposes, the FAA encourages (but does not require) caregivers to purchase a separate ticket for each child under the age of two so that the child can be securely restrained in a CRS. The FAA does not require the use of CRS for children under the age of two based on the FAA's analysis which shows that when caregivers are forced to purchase airline seats for children under age 2, the additional cost of an airline ticket will motivate some families to drive to their destinations instead of to fly. As background, section 522 of Public Law 103-305, required the Secretary of Transportation to study the impact of mandating the use of CRSs for children under 2 years old on scheduled air carriers. The Secretary submitted a report of this study to Congress in 1995. The report estimated that if a child restraint rule were imposed, approximately five infant lives would be saved aboard aircraft, and two major injuries and four minor injuries would be avoided over a 10-year period. The report also cautioned that this improvement would be offset by additional highway fatalities for airline passengers who chose to drive rather than purchase a seat for children under age 2. Even if infant fares were only 25 percent of full fare, the report estimated that there would be diversion to cars and thus a net increase in fatalities over a 10-year period.

The concern expressed in the 1995 report on mandating the use of CRSs for children under 2 years old, was that mandating CRSs (which require a passenger seat) could increase airline travel costs to families with children under age 2 enough to cause a significant number to travel by automobile instead of by airplane. In turn, this would expose the entire family to the higher risks of automobile travel and associated highway fatalities and injuries.¹² The FAA updated this report in December, 2011, and confirmed its conclusion.¹³

¹² See 70 FR 50266, Aug. 26, 2005. A copy of the Report to Congress has been placed in the docket.

¹³ “Update of Safety Benefits & Tradeoffs Related to Requiring the Use of Child Restraint Systems on Aircraft for Children Less Than Two Years of Age” December, 2011. http://www.dot.gov/faac/report/update-safety-benefits-tradeoffs-related.

Currently, air carriers are not required to disclose seat dimension information on their Web sites. It is believed that some caregivers choose not to travel with a CRS due to concern that the seat will not fit the particular equipment being flown. Congress directed the FAA to conduct rulemaking “[T]o require each air carrier operating under part 121, to post on the Internet Web site of the air carrier the maximum dimensions of a child safety seat that can be used to enable passengers to determine which child safety seats can be used on those aircraft.” See Public Law 112-95. Once implemented, this rule would require each part 121 air carrier that conducts passenger-carrying operations to post seat dimension information to their Web site (air carriers that do not have Web sites are excluded from this rule). This rule will benefit caregivers by making seat dimension information accessible, which in turn will allow them to determine if a particular CRS may fit in a seat of an aircraft. A caregiver may be inclined to purchase a separate ticket for a child under age 2 if the caregiver can reasonably expect that the child under age 2 can be secured in a CRS during flight.

The FAA considered several alternatives for determining the type of seat dimension information to be posted on air carrier Web sites.

One alternative required the width of each seat in each class of service for each individual airplane operated by an air carrier be posted on its Web site. While this alternative would provide the most precise information to caregivers, the FAA believes that maintaining this much detail to be unnecessarily onerous for the air carriers because multiple seats of the same width can be found within each class of service. Further, in order for this information to be useful, there can be no change in a flight's equipment from the time a ticket is purchased to the time of the flight's departure.

Another alternative required air carriers to publish only one dimension — that of the narrowest seat across an air carrier's entire fleet. This alternative, however, would only allow a caregiver to determine if there may be a possibility of a particular CRS fitting a particular airline seat on a particular flight. The FAA believes that providing the dimension of the narrowest seat only across an entire fleet would not facilitate CRS use because a caregiver with a CRS larger than the narrowest seat may be discouraged from using a CRS, even though there may be wider seats available that could accommodate one. Therefore this approach would not meet the intent of Congress when it mandated disclosure of seat dimensions.

After considering the alternatives, the FAA decided that the information to be posted on air carrier Web sites should provide caregivers with data to facilitate CRS use but should not be overly burdensome for the air carriers. Based on these criteria and comments to the proposed rule, the final rule requires an air carrier to post on its Web site the width of the narrowest and widest seats for each make, model, and series of aircraft in each class of service in the air carrier's fleet. This level of detail is reasonable given that most air carriers already disclose other airplane-related dimensions on their Web sites, including dimensions for overhead bins, space underneath seats, maximum size of carry-on luggage, and maximum size for pet carriers. Because of the level of detail air carriers are already providing, the FAA believes the requirements of this rule to be a minimal impact to those part 121 air carriers conducting passenger-carrying operations.

In the proposed rule air carriers were required to provide only the dimension of the widest seat for each make, model, and series of aircraft. The FAA received no comments on the cost-benefit methodology and estimates.

To account for the inclusion of providing the narrowest seat dimension in addition to that of the widest, the costs of the final rule exceed those estimated for the proposed rule. The cost increase is a result of the additional workload required by staff to gather and post to an air carrier's Web site the dimension of the narrowest seat dimension for each make, model, and series of aircraft operated by an air carrier, in addition to that of the widest. The FAA assumes that this activity does not impact the time estimated in the NPRM for management to verify that a carrier's Web site has been updated satisfactorily. Thus, adding the narrowest seat dimension to a carrier's Web site for the final rule increases present value costs beyond those of the NPRM by $6,500 for the low case, and $7,600 for the high case (in 2013 dollars).

The FAA reports there to be 81 part 121 air carriers; ¹⁴ however, only 58 of the 81 air carriers are impacted by this rule. Excluded from this rule's analysis are 21 cargo carriers; 1 air carrier that has ceased operations and filed for bankruptcy; and 1 air carrier that does not have an Internet Web site (air carriers that do not have Web sites do not need to comply with this rule).

¹⁴ FAA data from Q4, FY 2014.

To determine the cost of this rule, hours are estimated for each occupational job series ¹⁵ required to complete the task. The estimated hours are then multiplied by the United States Department of Labor Bureau of Labor Statistics (BLS) fully-burdened hourly wage rate for the corresponding occupational job series. Thus, the rule's total cost equals hours worked multiplied by hourly wages, summed across all part 121 air carriers affected by this rule. Further detail on the estimation of costs is provided below.

¹⁵ Based on United States Department of Labor, Bureau of Labor Statistics Occupational Codes.

As the basis of costs for this rulemaking, the FAA used assumptions regarding job skills and labor hours from the regulatory analysis ¹⁶ for the DOT's “Enhancing Airline Passenger Protections” ¹⁷ rule. One provision of the DOT's rule required an air carrier to post on its Web site a tarmac delay plan and a customer commitment plan. The FAA believes that the skills and labor hours necessary to post seat dimension information to an air carrier's Web site are similar to those estimated for posting a tarmac delay plan and customer commitment plan. During the first year of the DOT's implementation of the “Enhancing Airline Passenger Protections” rule, it was estimated that it would take a computer programmer and a supervisor/manager a total of 8 hours to post the customer commitment plan and tarmac delay plan to an air carrier's Web site. The FAA is using the DOT estimate as the basis for the time required for air carriers to comply with the seat dimension disclosure rule.

¹⁶ Final Regulatory Analysis, Consumer Rulemaking: Enhancing Airline Passenger Protections II at p. 43. This document can be found in Docket No. DOT-OST-2010-0140 or at http://www.regulations.gov/#!documentDetail;D=DOT-OST-2010-0140-2046.

¹⁷ 76 FR 23110, April 25, 2011.

To show a range of costs for the 58 air carriers affected by this rulemaking, the FAA first estimated a low and high case of hours worked by staff (database and systems administrators) and management.¹⁸ The estimated hours consist of two components: Base hours and variable hours. The base hour component is applicable to both staff and management. For staff, base hours represent the time it takes to identify the tasks required to post seat dimension disclosure information to an air carrier's Web site. For management, base hours represent the time expended verifying that Web sites are in compliance with this rulemaking. Base hours are assumed to be equal across all air carriers.

¹⁸ To estimate costs for this rule, labor hours are composed of staff hours and management hours. Staff hours are assumed to be performed by BLS Job Series 15-1140—Database and Systems Administrators and Network Architects. Management hours are performed by BLS Job Series 15-3021—Computer and Information Systems Managers.

The variable hour component is only applicable to the staff labor group. It accounts for the incremental labor required to make Web sites compliant to this rule for air carriers operating a fleet of multiple aircraft makes, models, and series, versus those that may operate only one make, model, and series of aircraft. Thus, the variable hour component increases for each make, model and series of aircraft operated by an individual carrier. Total costs of this rule are calculated by multiplying the hours expended for each of the labor groups by their respective hourly compensation, which are then summed across all carriers.

Following is a more detailed description of the estimated hours and costs by labor group. It is important to note that even for the high case, this final rule is still expected to be minimal cost.

Estimate of Hours for Year 1

The FAA expects the time required for an air carrier to revise its Web site to include seat dimension information is most labor intensive during the first year of the rule's implementation. The estimated hours to comply with this rule include work performed by the staff and management labor groups.

Staff Hours: As in the NPRM, the low and high case base hour component for staff labor totals 8 and 16 hours, respectively, for each of the 58 air carriers. However, the variable hour component used to estimate costs for the NPRM is doubled for the final rule, going from 0.5 hours per make, model and series of aircraft in an air carrier's fleet to 1.0 hour. The doubling of this component is based on the FAA decision to require air carriers to disclose on their Web sites the width of the narrowest seat for each make, model, and series of aircraft, in addition to the requirement for air carriers to disclose the width of the widest seat. The variable hour component does not vary between the low and high case.

As an example, an air carrier operating 3 make, model, and series of aircraft will expend 11 hours complying with this rule for the low case and 19 hours for the high case.¹⁹ In the low case, the 11 hours is made up of 8 base hours plus 3 variable hours (1 variable hour for each of the 3 make, model, and series of aircraft). In the high case, base hours are doubled to 16 hours, while the variable hours remain the same as in the low case at 3 hours, for a total of 19 hours.

¹⁹ For example, for an A319-100, the make is Airbus; the model is 319; the series is 100.

Management Hours: Management oversight is required by each air carrier to verify that the update to the Web site has been completed satisfactorily. As in the NPRM, it is assumed that each of the 58 Web sites will require two hours of management review time to verify accuracy of data. This assumption is the same for both the low and high case.

Estimate of Hours for Years 2 Through 10

For years 2 through 10, the FAA determined that less time is required, relative to year 1, to maintain the accuracy of seat dimension information posted to an air carrier's Web site. During this timeframe, it is established that air carriers with Web sites have already posted seat dimension information; thus air carriers may only need to revise the data periodically.

Staff Hours: For the low case, we use the same NPRM estimate of four staff hours annually for posting revised data. For the high case, staff hours worked are double that of the low case, for a total of 8 staff hours per year.

Management Hours: Management hours required for oversight during years 2 through 10 is estimated to be one hour per year. This estimate is the same for both the low and high case.

Table 1—Assumptions: Hours Required per Air Carrier To Revise Website
[Years 1-10]
Year of rule | Low case: Staff base hours | Low case: Mgmt. base hours | Low case: Variable hours | High case: Staff base hours | High case: Mgmt. base hours | High case: Variable hours
1 | 8.0 | 2.0 | * 1.0 | 16.0 | same as low case | same as low case.
2-10 | 4.0 | 1.0 | N/A | 8.0 | same as low case | N/A.
* This example is representative of a carrier with one make, model and series of aircraft. This number increases based on the count of different aircraft makes, models, and series.

Staff and Management Wages—Years 1 Through 10

The total cost for air carriers to comply with this rule is the sum of compensation paid ²⁰ to staff and management for hours worked. The FAA determined, based on BLS job titles,²¹ that staff work is performed by Database and System Administrators and Network Architects (BLS Job Series 15-1140), and manager oversight is performed by Computer and Information Systems Managers (BLS Job Series 11-3021).

²⁰ Total hourly compensation is the sum of wages plus benefits.

²¹ As reported in the April 2014 Occupational Employment Statistics Survey.

Since BLS reports average labor costs for scheduled air carriers independently of those for nonscheduled air carriers, estimated hours worked are tallied individually as well. Of the 58 Web sites in this analysis, 42 are for air carriers engaged in scheduled operations while the remaining 16 Web sites are for air carriers engaged in nonscheduled operations. The following table shows the fully-burdened rates used to estimate costs for the scheduled and nonscheduled air carrier groups.

Table 2—Assumptions: Hourly Wage and Benefits Compensation *
NAICS ** | Job series | Job category | Job title | Hourly wage | Benefits *** | Total hourly compensation
481100 Scheduled Air Transportation | 15-1140 | Staff | Database and System Administrators and Network Architects | $44.97 | $19.00 | $63.97
| 11-3021 | Mgmt. | Computer and Information System Managers | $63.37 | $26.77 | $90.14
481200 Nonscheduled Air Transportation | 15-1140 | Staff | Database and System Administrators and Network Architects | $35.21 | $14.88 | $50.09
| 11-3021 | Mgmt. | Computer and Information System Managers | $53.43 | $22.57 | $76.00
* Source: U.S. Department of Labor, Bureau of Labor Statistics April 2014 Occupational Employment Statistics Survey (released in May 2013) (www.bls.gov/oes/tables.htm).
** North American Industry Classification System—US Census Bureau.
*** Source: U.S. Department of Labor, Bureau of Labor Statistics News Release dated June 12, 2014 “Employer Costs for Employee Compensation—March 2013” Page 3—Table A. Hourly wage rates are 70.3 percent of total hourly compensation. (http://www.bls.gov/news.release/archives/ecec_06122013.pdf).

For the low case, multiplying hours required annually for each carrier to comply with this rule by the fully-burdened hourly wage rate over a ten-year period (and summed across all 58 air carriers) totals approximately $219 thousand in 2013 dollars ($161 thousand at 7 percent present value). For the high case, the rule costs approximately $373 thousand ($272 thousand at 7 percent present value), when summed across all carriers. This compares to operating revenues totaling just under $165 billion for 54 reporting air carriers (operating revenues for 4 of the air carriers affected by this rule were not available). Tables 3 and 4 summarize the low and high case costs for years 1 through 10. The FAA considers these costs to be minimal.

Table 3—Low Case Cost Estimate
[In thousands of 2013 dollars]
Year | 1 | 2 | 3 | 4 | 5 | 6 | 7 | 8 | 9 | 10 | Total cost
Scheduled Air Carrier:
Staff Compensation | $30.7 | $10.7 | $10.7 | $10.7 | $10.7 | $10.7 | $10.7 | $10.7 | $10.7 | $10.7 | $127.4
Management Compensation | 7.6 | 3.8 | 3.8 | 3.8 | 3.8 | 3.8 | 3.8 | 3.8 | 3.8 | 3.8 | 41.6
Nonscheduled Air Carrier:
Staff Compensation | $7.9 | $3.2 | $3.2 | $3.2 | $3.2 | $3.2 | $3.2 | $3.2 | $3.2 | $3.2 | $36.7
Management Compensation | 2.4 | 1.2 | 1.2 | 1.2 | 1.2 | 1.2 | 1.2 | 1.2 | 1.2 | 1.2 | 13.4
Total Costs | $48.6 | $19.0 | $19.0 | $19.0 | $19.0 | $19.0 | $19.0 | $19.0 | $19.0 | $19.0 | $219.2
Present Value—7% | 45.4 | 16.6 | 15.5 | 14.5 | 13.5 | 12.6 | 11.8 | 11.0 | 10.3 | 9.6 | 160.8

Table 4—High Case Cost Estimate
[In thousands of 2013 dollars]
Year | 1 | 2 | 3 | 4 | 5 | 6 | 7 | 8 | 9 | 10 | Total cost
Scheduled Air Carrier:
Staff Compensation | $52.2 | $21.5 | $21.5 | $21.5 | $21.5 | $21.5 | $21.5 | $21.5 | $21.5 | $21.5 | $245.6
Management Compensation | 7.6 | 3.8 | 3.8 | 3.8 | 3.8 | 3.8 | 3.8 | 3.8 | 3.8 | 3.8 | 41.6
Nonscheduled Air Carrier:
Staff Compensation | $14.3 | $6.4 | $6.4 | $6.4 | $6.4 | $6.4 | $6.4 | $6.4 | $6.4 | $6.4 | $72.0
Management Compensation | 2.4 | 1.2 | 1.2 | 1.2 | 1.2 | 1.2 | 1.2 | 1.2 | 1.2 | 1.2 | 13.4
Total Costs | $76.5 | $32.9 | $32.9 | $32.9 | $32.9 | $32.9 | $32.9 | $32.9 | $32.9 | $32.9 | $372.6
Present Value—7% | 71.5 | 28.7 | 26.9 | 25.1 | 23.5 | 21.9 | 20.5 | 19.2 | 17.9 | 16.7 | 271.8

In comparison, NPRM costs in 2013 dollars totaled $211 thousand for the low case ($154 thousand at 7 percent present value), and $362 thousand for the high case ($264 thousand at 7 percent present value).

This final rule addresses Congressional direction that requires air carriers to make available on their Web sites information to enable passengers to determine which child restraint system can be used on airplanes in passenger carrying operations. Industry comments to the NPRM generally support the changes required by Congress. Since this rule is mandated by Congress, the FAA believes that the benefits exceed the costs.

B. Regulatory Flexibility Determination

The Regulatory Flexibility Act (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The Small Business Administration (SBA) small entity size standard for air carriers is 1,500 employees or less. Of the 58 part 121 air carriers analyzed for this rule, 23 are classified as large entities and 27 as small entities.²² Employment statistics for the 8 remaining air carriers are not available; however, for purposes of the regulatory flexibility analysis, it is assumed that these 8 air carriers are small entities (for a total of 35 small entities). Since a majority of the air carriers analyzed for this rule are classified as small entities, the rule is expected to impact a substantial number of small entities.

²² Based on air carrier filings to the U.S. Department of Transportation on Form 41, Schedule P10 “Employment Statistics by Labor Category” For the air carriers that did not provide employment statistics to the U.S. Department of Transportation, the Web site www.aviationreferencedesk.com was used.

For this regulatory flexibility analysis, calendar year (CY) 2013 operating revenues ²³ were compared to the estimated compliance cost for the high case during year 1 of the rule. Of the 35 air carriers considered to be small entities, operating revenue data were only available for 31 of them. For the 31 air carriers reporting financial data to the BTS, the highest compliance cost of this final rule for any one carrier was estimated to be $1,524 in 2013 dollars and no greater than .06 percent of any carrier's CY 2013 operating revenues. The FAA believes a compliance cost of .06 percent relative to annual revenue is not a significant economic impact. There were no comments to the NPRM concerning the determination of no significant economic impact made in the initial regulatory flexibility determination. Therefore, as provided in section 605(b), the head of the FAA certifies that this rulemaking will not result in a significant economic impact on a substantial number of small entities.

²³ Based on air carrier filings to the U.S. Department of Transportation on Form 41, Schedule P1.2 “Statement of Operations” or Form 298C, Schedule F-1 “Report of Financial Data”.

C. Unfunded Mandates Assessment

Title II of the Unfunded Mandates Reform Act of 1995 (Pub. L. 104-4) requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $155.0 million in lieu of $100 million. This final rule does not contain such a mandate; therefore, the requirements of Title II do not apply.

D. Paperwork Reduction Act

The Paperwork Reduction Act of 1995 (44 U.S.C. 3507(d)) requires that the FAA consider the impact of paperwork and other information collection burdens imposed on the public. According to the Paperwork Reduction Act of 1995 and regulations implementing the Act (5 CFR part 1320), an agency may not collect or sponsor the collection of information, nor may it impose an information collection requirement unless it displays a currently valid Office of Management and Budget (OMB) control number.

This final rule will impose the following new information collection requirements. As required by the Paperwork Reduction Act of 1995 (44 U.S.C. 3507(d)), the FAA submitted these information collection amendments to OMB for its review. OMB approved these new information collection requirements associated with this final rule and assigned OMB Control Number 2120-0760.

Summary: The rule will require air carriers conducting domestic, flag, and supplemental operations to make available on their Web sites the width of the narrowest and widest passenger seats in each class of service for each airplane make, model, and series, used in passenger-carrying operations. This rule amends 14 CFR 121.311.

Use: This rule is intended to facilitate CRS use onboard airplanes. This rule will provide greater information to caregivers to help them determine whether a particular CRS will fit on a particular airplane.

Respondents (including number of): Respondents include each affected part 121 scheduled and nonscheduled passenger-carrying air carrier, which are 58.

Frequency: Each affected air carrier must comply with this rule. Once this rule is initially implemented, the only time air carriers would need to update their Web sites would be when a new airplane make, model, or series is introduced or when the narrowest or widest seat in a class of service in a currently listed make, model, or series of airplane is replaced with a larger or smaller seat.

Annual Burden Estimate: All of the costs accounted for in the economic analysis for this rulemaking relate to the information collection burden. A summary of the annual burden estimate for the low case and the high case expected to result from this final rule for years 1, 2, and 3 by carrier type (scheduled and nonscheduled) is provided in the tables below.

Table 5— Total Paperwork Hours for Years 1, 2 and 3 by Carrier Type
[Scheduled vs. Nonscheduled]
Hours | Hours: Scheduled carriers: Staff | Hours: Scheduled carriers: Mgmt | Hours: Scheduled carriers: Total | Hours: Nonscheduled carriers: Staff | Hours: Nonscheduled carriers: Mgmt | Hours: Nonscheduled carriers: Total | Hours: Total hours: Staff | Hours: Total hours: Mgmt | Hours: Total hours: Total
Low Case:
Year 1 | 480 | 84 | 564 | 157 | 32 | 189 | 637 | 116 | 753
Year 2-3 | 168 | 42 | 210 | 64 | 16 | 80 | 232 | 58 | 290
High Case:
Year 1 | 816 | 84 | 900 | 285 | 32 | 317 | 1,101 | 116 | 1,217
Year 2-3 | 336 | 42 | 378 | 128 | 16 | 144 | 464 | 58 | 522

Table 6— Total Paperwork Costs for Years 1, 2 and 3 by Carrier Type
[Scheduled vs. Nonscheduled]
Costs | Costs (in 2013 dollars): Scheduled carriers: Staff | Costs (in 2013 dollars): Scheduled carriers: Mgmt | Costs (in 2013 dollars): Scheduled carriers: Total | Costs (in 2013 dollars): Nonscheduled carriers: Staff | Costs (in 2013 dollars): Nonscheduled carriers: Mgmt | Costs (in 2013 dollars): Nonscheduled carriers: Total | Costs (in 2013 dollars): Total costs: Staff | Costs (in 2013 dollars): Total costs: Mgmt | Costs (in 2013 dollars): Total costs: Total | Costs (in 2013 dollars): Total costs: Present value (7%)
Low Case:
Year 1 | $30,706 | $7,572 | $38,278 | $7,864 | $2,432 | $10,296 | $38,570 | $10,004 | $48,574 | $45,396
Year 2 | 10,747 | 3,786 | 14,533 | 3,206 | 1,216 | 4,422 | 13,953 | 5,002 | 18,955 | 16,556
Year 3 | 10,747 | 3,786 | 14,533 | 3,206 | 1,216 | 4,422 | 13,953 | 5,002 | 18,955 | 15,473
High Case:
Year 1 | $52,200 | $7,752 | $59,772 | $14,276 | $2,432 | $16,708 | $66,476 | $10,004 | $76,480 | $71,476
Year 2 | 21,494 | 3,786 | 25,280 | 6,412 | 1,216 | 7,628 | 27,905 | 5,002 | 32,907 | 28,743
Year 3 | 21,494 | 3,786 | 25,280 | 6,412 | 1,216 | 7,628 | 27,905 | 5,002 | 32,907 | 26,862

Additional detail regarding the annual burden is provided in the regulatory evaluation discussion provided in this preamble (Section VI. Regulatory Notices and Analyses, A. Regulatory Evaluation) as well as the Supporting Statement for Paperwork Reduction Act Submissions associated with this rulemaking.

The agency did not receive any public comments on this rule's information collection requirements.

E. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this rule and has determined that it follows the direction of Congress, which may improve safety and thus is not considered as an unnecessary obstacle to foreign commerce.

F. International Compatibility and Cooperation

In keeping with U.S. obligations under the Convention on International Civil Aviation, it is FAA policy to conform to International Civil Aviation Organization (ICAO) Standards and Recommended Practices to the maximum extent practicable. The FAA has determined that there are no ICAO Standards and Recommended Practices that correspond to these regulations.

G. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

H. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-5.6 and involves no extraordinary circumstances.

VII. Executive Order Determinations

A. Executive Order 13132, Federalism

The FAA has analyzed this rule under the principles and criteria of Executive Order 13132, Federalism. The agency has determined that this action will not have a substantial direct effect on the States, or the relationship between the Federal Government and the States, or on the distribution of power and responsibilities among the various levels of government, and, therefore, would not have Federalism implications.

B. Executive Order 13211, Regulations That Significantly Affect Energy Supply, Distribution, or Use

The FAA analyzed this rule under Executive Order 13211, Actions Concerning Regulations that Significantly Affect Energy Supply, Distribution, or Use (May 18, 2001). The agency has determined that it will not be a “significant energy action” under the executive order and will not be likely to have a significant adverse effect on the supply, distribution, or use of energy.

VIII. Additional Information

A. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Federal Digital System at http://www.gpo.gov/fdsys/.

Copies may also be obtained by sending a request to the Federal Aviation Administration, Office of Rulemaking, ARM-1, 800 Independence Avenue SW., Washington, DC 20591, or by calling (202) 267-9677. Commenters must identify the docket or notice number of this rulemaking.

All documents the FAA considered in developing this rule, including economic analyses and technical reports, may be accessed from the Internet through the Federal eRulemaking Portal referenced in item (1) above.

List of Subjects

14 CFR Part 11

Reporting and recordkeeping requirements.

14 CFR Part 121

Air carriers, Aircraft, Aviation safety, Charter flights, Reporting and recordkeeping requirements.

The Amendment

In consideration of the foregoing, the Federal Aviation Administration amends chapter I of title 14, Code of Federal Regulations as follows:

PART 11—GENERAL RULEMAKING PROCEDURES

1. The authority citation for part 11 continues to read as follows:

Authority: 49 U.S.C. 106(f), 106(g), 40101, 40103, 40105, 40109, 40113, 44110, 44502, 44701-44702, 44711, and 46102.

2. In § 11.201, in paragraph (b), revise the entry to Part 121 to read as follows:

§ 11.201 Office of Management and Budget (OMB) control numbers assigned under the Paperwork Reduction Act.

* * * * *

(b) * * *

14 CFR Part or section identified and described | Current OMB control number
* * * * * * *
Part 121 | 2120-0008, 2120-0028, 2120-0535, 2120-0571, 2120-0600, 2120-0606, 2120-0614, 2120-0616, 2120-0631, 2120-0651, 2120-0653, 2120-0691, 2120-0702, 2120-0739, 2120-0760
* * * * * * *

PART 121—OPERATING REQUIREMENTS: DOMESTIC, FLAG, AND SUPPLEMENTAL OPERATIONS

3. The authority citation for part 121 is revised to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95 126 Stat 62 (49 U.S.C. 44732 note).

4. In § 121.311, add paragraph (k) to read as follows:

§ 121.311 Seats, safety belts, and shoulder harnesses.

* * * * *

(k) Seat dimension disclosure. (1) Each air carrier that conducts operations under this part and that has a Web site must make available on its Web site the width of the narrowest and widest passenger seats in each class of service for each airplane make, model and series operated by that air carrier in passenger-carrying operations.

(2) For purposes of paragraph (k)(1) of this section, the width of a passenger seat means the distance between the inside of the armrests for that seat.

5. In § 121.583, revise paragraph (a) introductory text to read as follows:

§ 121.583 Carriage of persons without compliance with the passenger-carrying requirements of this part.

(a) When authorized by the certificate holder, the following persons, but no others, may be carried aboard an airplane without complying with the passenger-carrying airplane requirements in §§ 121.309(f), 121.310, 121.391, 121.571, and 121.587; the passenger-carrying operation requirements in part 117 and §§ 121.157(c) and 121.291; the requirements pertaining to passengers in §§ 121.285, 121.313(f), 121.317, 121.547, and 121.573; and the information disclosure requirements in § 121.311(k):

* * * * *

Issued in Washington, DC, under the authority provided by 49 U.S.C. 106(f), 44701(a), and 49 U.S.C. 42301 preceding note added by Public Law 112-95, sec. 412, 126 Stat. 89, on September 18, 2015.
Michael P. Huerta,
Administrator.

[FR Doc. 2015-24720 Filed 9-29-15; 8:45 am]

BILLING CODE 4910-13-P